SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved Information Collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB) Office of Management and Budget, Attn: Desk Officer for SSA, Fax: 202-395-6974. E-mail address: OIRA_Submission@omb.eop.gov.

(SSA) Social Security Administration, DCBFM,Attn: Reports Clearance Officer, 1332 Annex Building, 6401 Security Blvd., Baltimore, MD 21235. Fax: 410-965-6400, E-mail address: OPLM.RCO@ssa.gov.

I. The information collection below is pending at SSA. SSA will submit it to OMB within 60 days from the date of this notice. To be sure that we consider your comments, we must receive them no later than May 18, 2009. Individuals can obtain copies of the collection instrument by calling the SSA Reports Clearance Officer at 410-965-3758 or by writing to the e-mail address listed above.

1. Representative Payee Report—Special Veterans Benefits—20 CFR 408.665—0960-0621. Title VIII allows the payment of monthly benefits by the Commissioner of Social Security to qualified World War II veterans who reside outside the United States. An SSA-appointed representative payee may receive and manage the monthly payment for the beneficiary's use and benefit. SSA uses information from the SSA-2001-F6 to determine if the payee has used the benefits properly and continues to demonstrate strong concern for the beneficiary. Respondents are persons or organizations who act on behalf of beneficiaries receiving Special Veterans Benefits.

Type of Request: Revision of an OMB-approved information collection.

Number of Respondents: 100.

Frequency of Response: 1.

Average Burden per Response: 10 minutes.

Estimated Annual Burden: 17 hours.

2. Request for Business Entity Taxpayer Information—0960-0731. SSA uses Form SSA-1694 to collect information from law firms or other business entities that have partners or employees to whom SSA pays fees SSA has authorized as compensation for the representation of claimants before SSA. SSA uses the information to meet Form 1099-MISC requirements for issuance. The respondent law firms or other business entities have partners or employees who are attorneys or other qualified individuals representing claimants before SSA.

Type of Request: Revision of an OMB-approved information collection.

Number of Respondents: 2,000.

Frequency of Response: 1.

Average Burden per Response: 10 minutes.

Estimated Annual Burden: 333 hours.

II. SSA has submitted the information collections listed below to OMB for clearance. To be sure that we consider your comments, we must receive them no later than April 20, 2009.

You can obtain a copy of the OMB clearance packages by calling the SSA Reports Clearance Officer at 410-965-3758, or by writing to the above listed address.

1. Physician's/Medical Officer's Statement of Patient's Capability to Manage Benefits—20 CFR 404.2015 and 416.615—0960-0024. SSA uses the information collected on Form SSA-787 to determine an individual's capability to handle his or her own benefits. This information assists SSA in determining the need for a representative payee. The respondents are physicians of the beneficiaries' or medical officers of the institution in which the beneficiaries reside.

Number of Respondents: 24,000.

Frequency of Response: 1.

Average Burden per Response: 15 minutes.

Estimated Annual Burden: 6,000 hours.

Note: This is a correction notice. SSA published this information collection as an extension on January 15, 2009 at 74 FR 2642. Since we are revising the Privacy Act Statement, this is now a revision of an OMB-approved information collection.

2. Partnership Questionnaire—20 CFR 404.1080-404.1082—0960-0025. SSA uses the information reported on Form SSA-7104 to establish several aspects of eligibility for Social Security benefits, including the accuracy of reported partnership earnings, the veracity of a retirement, and lag earnings. The respondents are applicants for and recipients of Social Security Old Age, Survivors, and Disability Insurance Benefits.

Type of Request: Revision of an OMB-approved information collection.

Number of Respondents: 12,350.

Frequency of Response: 1.

Average Burden per Response: 30 minutes.

Estimated Annual Burden: 6,175 hours.

Note: This is a correction notice: SSA published this information collection as an extension on December 11, 2008 at 73 FR 75489. Since we are revising the Privacy Act Statement, this is now a revision of an OMB-approved information collection.

3. Letter to Employer Requesting Wage Information—20 CFR 404.726—0960-0138. SSA uses Form SSA-L4201 to collect information from employers to establish and/or verify wage information for Supplemental Security Income (SSI) claimants and recipients. SSA also uses the information to determine eligibility and proper payment for SSI. The respondents are the applicant's employers and recipients of SSI payments.

Type of Request: Revision of an OMB-approved information collection.

Number of Respondents: 133,000.

Frequency of Response: 1.

Average Burden per Response: 30 minutes.

Estimated Annual Burden: 66,500 hours.

Note: This is a correction notice. SSA published this information collection as an extension on January 15, 2009 at 74 FR 2642. Since we are revising the Privacy Act Statement, this is now a revision of an OMB-approved information collection.

4. Statement of Living Arrangements, In-Kind Support and Maintenance—20 CFR 416.1130-416.1148—0960-0174. SSA uses Form SSA-8006-F4 to establish in-kind support and maintenance for SSI applicants and recipients. A recipient's need is the basis for determining SSI payments. Need is measured, in part, by the amount of income an individual receives. Income includes in-kind support and maintenance in the form of food and shelter provided by other persons. Form SSA-8006-F4 collects information to ensure recipients are eligible to receive SSI payments and to determine the correct amount of payments due. The information permits SSA Administrative Law Judges to determine the income value of in-kind support and maintenance SSI applicants and recipients receive. The respondents are individuals who apply for SSI payments or complete an SSI eligibility redetermination.

Type of Request: Revision of an OMB-approved information collection.

Number of Respondents: 173,380.

Frequency of Response: 1.

Average Burden per Response: 7 minutes.

Estimated Annual Burden: 20,228 hours.

Note: This is a correction notice. SSA published this information collection as an extension on January 15, 2009 at 74 FR 2642. Since we are revising the Privacy Act Statement, this is now a revision of an OMB-approved information collection.

5. Supplemental Security Income (SSI) Claim Information Notice—20 CFR 416-210-0960-0324. SSA uses Form SSA-L8050-U3 to collect information on whether an SSI recipient is using all sources of potential income for his or her own support. SSI supplements other income the SSI recipient receives. Respondents are SSI applicants or recipients who may be eligible for benefits from public or private programs.

Type of Request: Revision of an OMB-approved information collection.

Number of Respondents: 7,500

Frequency of Response: 1.

Average Burden per Response: 10 minutes.

Estimated Annual Burden: 1,250 hours.

Note: This is a correction notice. SSA published this information collection as an extension on January 15, 2009 at 74 FR 2642. Since we are revising the Privacy Act Statement, this is now a revision.

6. Permanent Residence under Color of the Law (PRUCOL)—20 CFR 416.1618-0960-0451. As discussed in SSA regulations at 20 CFR 416.1415 and 416.1618, a PRUCOL alien must present evidence of his/her alien status at application and periodically thereafter as part of the eligibility determination process for SSI. SSA verifies the validity of the evidence of PRUCOL for grandfathered nonqualified aliens with the Department of Homeland Security (DHS). SSA determines whether the individual is PRUCOL, based on the DHS response. Without this information, SSA is unable to determine whether the individual is eligible for SSI payments. The respondents are individuals who have alien status and live in the United States.

Type of Request: Revision of an OMB-approved information collection.

Number of Respondents: 1,300.

Frequency of Response: 1

Average Burden per Response: 5 minutes.

Estimated Annual Burden: 108 hours.

7. Filing Claims Under the Federal Tort Claims Act—20 CFR 429.101-429.110-0960-0667. SSA uses the information claimants provide to investigate and determine whether to make an award, compromise, or settlement under the Federal Tort Claims Act. The Federal Tort Claims Act is the legal mechanism for compensating persons injured by negligent or wrongful acts that occur during the performance of official duties by Federal employees. In accordance with the law, SSA accepts monetary claims filed under the Federal Tort Claims Act for damages against the United States, for loss of property, personal injury, or death that results from an SSA employee's negligent or wrongful act or omission. The respondents are individuals/entities making a claim under the Federal Tort Claims Act.

Type of Request: Extension of an OMB-approved information collection.

CFR Section | Annual number of responses | Frequency of response | Average burden per response (minutes) | Estimated annual burden (hours)
429.102; 429.103 ¹ |  |  |  |
429.104(a) | 30 | 1 | 5 | 3
429.104(b) | 25 | 1 | 5 | 2
429.104(c) | 2 | 1 | 5 | .17
429.106(b) | 10 | 1 | 10 | 2
Totals | 68 |  |  | 8
¹ We are not reporting a burden for this collection because respondents complete OMB-approved form SF-95.

8. Administrative Review Process for Adjudicating Initial Disability Claims—20 CFR 404.961, 405.330, 405.366, 404.950, 405.332, 404.949, 405.334, 404.957(a), 405.380(a), 405.381, 405.382, 405.425(b), 404.982, 405.505, 404.987, 405.601(b), 404.988 and 405.601(b)-0960-0710. SSA collects information to establish: (1) The claimant's right to administrative review; (2) the severity of the claimant's alleged impairments; and (3) the State Disability Determination Services (DDS) performance level. SSA uses the information these regulations collect to determine eligibility and/or entitlement to disability insurance benefits and/or SSI, and to permit appeals of these determinations. The respondents are applicants for Title II disability insurance benefits and/or SSI payments.

Type of Request: Revision of an OMB-approved information collection.

Section No. | Number of respondents | Frequency of response | Average burden per response | Estimated annual burden (hours)
404.961 | 11,725 | 1 | 20 minutes | 3,908 *
405.330 | 396 | 1 | 20 minutes | 132
405.366 | 99 | 1 | 20 minutes | 33
404.950(d) | 1,040 | 1 | 20 minutes | 347
404.949 | 2,868 | 1 | 1 hour | 2,868
405.334 | 20 | 1 | 1 hour | 20
404.957(a) | 20,395 | 1 | 10 minutes | 3,399
405.380(a) | 646 | 1 | 10 minutes | 108
405.381 & 405.382 | 37 | 1 | 30 minutes | 19
405.425(b) | 200 | 1 | 1 hour | 200
404.982 | 1,317 | 1 | 30 minutes | 659
404.987 & 404.988 | 10,610 | 1 | 30 minutes | 5,305
405.601(b) | 52 | 1 | 30 minutes | 26
Total | 49,405 |  |  | 17,024

9. Certification of Low Birth Weight for SSI Eligibility of Funds You Provided to Another and Statement of Funds You Received—20 CFR 416.931, 416.926a(m), (7) & (8) and 416.924-0960-0720. Form SSA-3830 assists hospitals and claimants who file on behalf of children by providing local field offices (FO) and DDSs with medical information for determining disability of low birth weight infants. FOs use the forms as protective filing statements, and the medical information for making presumptive disability findings, which allow expedited payment to eligible claimants. DDSs use the medical information to determine a disability and a continuing disability. The respondents are hospitals that have information identifying low birth weight babies and the medical conditions those babies may have.

Type of Request: Revision of an OMB-approved information collection.

Number of Respondents: 24,000.

Frequency of Response: 1.

Average Burden per Response: 15 minutes.

Estimated Annual Burden: 6,000 hours.

Note: This is a correction notice. SSA published this information collection as an extension on January 15, 2009 at 74 FR 2642. Since we are revising the Privacy Act Statement, this is now a revision of an OMB-approved information collection.

Dated: March 13, 2009.
John Biles,
Reports Clearance Officer, Center for Reports Clearance, Social Security Administration.

[FR Doc. E9-5994 Filed 3-18-09; 8:45 am]

BILLING CODE 4191-02-P